Proclamation 9557 of December 16, 2016

Wright Brothers Day, 2016

By the President of the United States of America

A Proclamation

On December 17, 1903, two brothers from Dayton, Ohio successfully flew the world's first powered aircraft. The plane remained airborne for only 12 seconds, but Orville and Wilbur Wright's innovative legacy has endured for generations—unleashing unparalleled possibilities and forever transforming our way of life. On Wright Brothers Day, we celebrate the determination and ingenuity that drove their pursuit and recommit to shaping the future through our ideas and discoveries.

As self-taught mechanics, the Wright brothers devoted years to research and experimentation before taking their talents and creativity to the strong winds above Kitty Hawk, North Carolina, where they completed the monumental first flight. Their mother, Susan, spent considerable time in her youth designing and building mechanical appliances; she guided her children whenever she could and always encouraged them to chase their curiosities. As Orville and Wilbur grew, they followed their entrepreneurial instincts, launching a newspaper and later opening a bicycle shop to sell their designs. Their resilience through early failed attempts at flight, and their resolve to dream big in the face of that which had never been done before, still serves as an inspiration.

Our capacity to harness new inventions and technologies to tackle our greatest challenges has allowed our Nation to lead the world in innovation. From sending people into the skies and outer space to finding ways to instantly communicate with others across the globe, the creativity inherent in our DNA and our commitment to science have sparked our progress and set us apart. The same American spirit of innovation that led the Wright brothers to test their theories again and again—finding ways to make things work and then make them even better—is still reflected in the imagination and tenacity that move inventors and explorers to push the frontiers of what is known and achieve groundbreaking feats that were once unimaginable.

In upholding this legacy, we must resolve to help all young Americans understand that they can have a place in advancing science and technology—regardless of their race, gender, or circumstances. Brilliant ideas can come from anyone and anywhere, and it is our obligation to increase the availability of science, technology, engineering, and math (STEM) training and encourage the next generation to pursue STEM careers. This commitment to science and innovation can revitalize our communities and economies and reignite our shared sense of optimism and opportunity.

Today, we reflect on the century of flight the Wright brothers helped make possible. Their story reminds us not just of where we have been, but where we still can go when we foster ingenuity and discovery and refuse to accept the sky as the limit. With the right investments and the perseverance of dreamers and doers who see a challenge and yearn to find a solution, there is nothing we cannot achieve.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, BARACK OBAMA, President of the United States of America, do hereby proclaim December 17, 2016, as Wright Brothers Day.

IN WITNESS WHEREOF, I have hereunto set my hand this sixteenth day of December, in the year of our Lord two thousand sixteen, and of the Independence of the United States of America the two hundred and forty-first.

[FR Doc. 2016-30955

Filed 12-20-16; 11:15 am]

Billing code 3295-F7-P